DEPARTMENT OF COMMERCE

International Trade Administration

Notice of Scope Rulings

AGENCY: Enforcement and Compliance, International Trade Administration, Department of Commerce.

DATES: Applicable August 25, 2022.

SUMMARY: The Department of Commerce (Commerce) hereby publishes a list of scope rulings and anti-circumvention determinations made during the period April 1, 2022-June 30, 2022. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce's regulations provide that it will publish in the Federal Register a list of scope rulings on a quarterly basis.¹ Our most recent notification of scope rulings was published on May 25, 2022.² This current notice covers all scope rulings and circumvention determinations made by Enforcement and Compliance between April 1, 2022-June 30, 2022.

¹ See 19 CFR 351.225(o).

² See Notice of Scope Rulings, 87 FR 31859 (May 25, 2022).

Scope Rulings Made April 1, 2022 Through June 30, 2022

Canada

A-122-857 and C-122-858: Softwood Lumber From Canada

Requestor: Valley Cedar 2 Inc. Western red cedar shingles produced and exported by Valley Cedar to its U.S. affiliate, Cedar Valley Manufacturing Inc. are not covered the scope of the antidumping duty (AD) and countervailing duty (CVD) orders after consideration of the additional factors specified in 19 CFR 351.225(k)(2); May 12, 2022.

People's Republic of China (China)

A-570-922 and C-570-923: Raw Flexible Magnets From China

Requestor: REHAU Industries, LLC (REHAU). Polyvinyl chloride (PVC) door gaskets, which contain a pocket that encases a raw flexible magnetic band are not covered by the scope of the AD and CVD orders on certain flexible magnets from China because the magnetic band is not permanently affixed to the PVC gasket by an adhesive, heat process, or pressure and, thus, the PVC door gaskets do not constitute flexible magnets described in the scope that are bonded or limited to other material; April 4, 2022.

A-570-106 and C-570-107: Wooden Cabinets and Vanities and Components Thereof From China

Requestor: Walt Disney Parks & Resorts U.S. Inc. Two beverage stations are not covered by the scope of the AD order on wooden cabinets and vanities and components thereof from China because these beverage centers are not for permanent installation; May 2, 2022.

A-570-042 and C-570-043: Stainless Steel Sheet and Strip From China

Requestor: Hans-Mill Corporation. Hans-Mill's stainless steel trash can bodies, whether shipped by themselves or with other components, are covered by the scope of the AD and CVD orders on stainless steel sheet and strip (SSSS) from China because they meet all physical specifications of subject merchandise and do not fall within any exclusion. Moreover, they are further processed in a manner that does not change the physical characteristics such that the product is part of a class or kind of merchandise distinct from SSSS subject to the orders; May 9, 2022.

A-570-117 and C-570-118: Wood Mouldings and Millwork Products From China

Requestor: Loveday Lumber Company, Inc. Lengthwise sawn (LWS) scarf-jointed wood reveal strips and LWS scarf-jointed wood squares are not covered by the scope of the AD order on wood mouldings and millwork products from China because they are not continuously shaped wood or finger-jointed or edge-glued mouldings or millwork blanks; May 16, 2022.

A-570-010 and C-570-011: Crystalline Silicon Photovoltaic Products From China

Requestor: HT Solar Enerji AS. HT Solar Enerji AS's cells and modules produced in Turkey from wafers sourced globally (e.g., China, Korea, Malaysia, and Vietnam) do not fall within the scope of the AD and CVD orders on crystalline silicon photovoltaic products from China; June 15, 2022.

A-570-133 and C-570-134: Certain Metal Lockers and Parts Thereof From China

Requestor: Hornady Manufacturing Co. (Hornady). RAPiD Safe Ready Vaults imported by Hornady are covered by the AD and CVD orders on certain metal lockers and parts thereof (lockers) from China because they meet the physical specifications of merchandise expressly covered by the scope and do not meet all requirements necessary to qualify for either the gun safe exclusion or the safe exclusion explicitly enumerated in the scope language. SnapSafe Titan metal gun vaults imported by Hornady are not covered by the AD and CVD orders on lockers from China because they meet all requirements necessary to qualify for the gun safe exclusion explicitly enumerated in the scope language; June 23, 2022.

A-570-090 and C-570-091: Certain Steel Wheels 12 to 16.5 Inches in Diameter From China

Requestor: Allied Wheel Components, Inc. (Allied Wheel). Passenger vehicle wheel model numbers X-45282, X-45329, X-45333, X-45334, X-45337, X-45399, X-45401, X-45460, X-45463, and X-45477 imported by Allied Wheel are not covered by the scope of the AD and CVD orders on certain steel wheels 12 to 16.5 inches in diameter (steel wheels) from China because they have different bolt patterns, offsets, pilot diameters, and/or load ratings that make them unsuitable for use on trailer or towable equipment. Passenger vehicle wheel model number X-45304 imported by Allied Wheel is not covered by the scope of the AD and CVD orders on steel wheels from China because the expectations of ultimate purchasers, ultimate use, and manner in which the product is advertised and displayed distinguish it from in-scope wheels; June 23, 2022.

A-570-117 and C-570-118: Wood Mouldings and Millwork Products From China

Requestor: Composite Technology International, Inc. Flat jambs and super and stapled jambs are covered by the scope of the antidumping duty order on wood mouldings and millwork products from China because they are manufactured from wood and do not contain more than 50 percent composite material; June 27, 2022.

Notification to Interested Parties

Interested parties are invited to comment on the completeness of this list of completed scope inquiries and anti-circumvention determinations made during the period April 1, 2022 through June 30, 2022. Any comments should be submitted to the Deputy Assistant Secretary for AD/CVD Operations, Enforcement and Compliance, International Trade Administration, via email to CommerceCLU@trade.gov.

This notice is published in accordance with 19 CFR 351.225(o).

Dated: August 19, 2022.
James Maeder,
Deputy Assistant Secretary for Antidumping and Countervailing Duty Operations.

[FR Doc. 2022-18330 Filed 8-24-22; 8:45 am]

BILLING CODE 3510-DS-P